DEPARTMENT OF THE INTERIOR

Bureau of Reclamation

Delta-Mendota Canal/California Aqueduct Intertie, Alameda County, California

AGENCY: Bureau of Reclamation, Interior.

ACTION: Notice of intent to prepare an environmental impact statement (EIS) and notice of public scoping meetings.

SUMMARY: Pursuant to the National Environmental Policy Act (NEPA), the Bureau of Reclamation (Reclamation) intends to prepare an EIS for the Delta-Mendota Canal/California Aqueduct Intertie (Intertie). A primary purpose of the Intertie is to allow for operation and maintenance activities on the Tracy pumping plant and fish facility, the Delta-Mendota Canal, and the O'Neill pumping plant and intake canal. A Draft EIS is expected to be available in May 2007.

The Intertie consists of constructing and operating a pumping plant and pipeline connection between the Delta Mendota Canal (DMC) and the California Aqueduct. The Intertie would be used in a number of ways to achieve multiple benefits, including meeting current water supply demands, allowing for the maintenance and repair of the Central Valley Project (CVP) Delta export and conveyance facilities, and providing operational flexibility to respond to emergencies related to both the CVP and State Water Project (SWP).

Reclamation decided to withdraw the recently published Finding of No Significant Impact and Environmental Assessment (EA) for the Intertie and to initiate an EIS based on public challenge to the EA content and conclusions.

DATES: A series of public scoping meetings will be held to solicit public input on the alternatives, concerns, and issues to be addressed in the EIS. The meeting dates are as follows:

• Tuesday, August 1, 2006, 10 a.m. to 12 Noon, Sacramento, CA.

• Thursday, August 3, 2006, 6 to 8 p.m., Stockton, CA.

Written comments on the scope of the EIS should be mailed to Reclamation at the address below by September 4, 2006.

ADDRESSES: The public scoping meeting locations are:

• Sacramento—Federal Building, 2800 Cottage Way, Cafeteria Rooms C-1001 and C-1002, Sacramento, CA 95825.

• Stockton—Cesar Chavez Central Library, 605 North El Dorado Street, Steward-Hazelton Room, Stockton, CA 95202.

Written comments on the scope of the EIS should be sent to: Ms. Sammie Cervantes, Bureau of Reclamation, 2800 Cottage Way, MP-730, Sacramento, CA 95825.

FOR FURTHER INFORMATION CONTACT: Ms. Sharon McHale, Reclamation Project Manager, at the above address, at 916-978-5086, TDD 916-978-5608, or via fax at 916-978-5094 or e-mail at smchale@mp.usbr.gov.

SUPPLEMENTARY INFORMATION: The project area is in an unincorporated area of the San Joaquin Valley in Alameda County, west of the city of Tracy. The site is in a rural area zoned for general agriculture and is under federal and state ownership. The Intertie would be located at milepost 7.2 of the DMC, connecting with milepost 9.1 of the California Aqueduct, where they are approximately 500 feet apart.

The Intertie would include a 450 cubic feet per second (cfs) pumping plant at the DMC that would allow up to 400 cfs to be pumped from the DMC to the California Aqueduct through an underground pipeline. Because the aqueduct is located approximately 50 feet higher in elevation than the DMC, up to 900 cfs could be conveyed from the aqueduct to the DMC using gravity flow.

The Intertie would be owned by the Federal government and operated by the San Luis and Delta Mendota Water Authority (Authority). An agreement among Reclamation, the California Department of Water Resources, and the Authority would identify the responsibilities and procedures for operating the Intertie. A permanent easement would be obtained by Reclamation where the Intertie alignment crosses state property.

If special assistance is required at the scoping meetings, please contact Ms. Sammie Cervantes at 916-978-5189, TDD 916-978-5608, or via e-mail at scervantes@mp.usbr.gov. Please notify Ms. Cervantes as far in advance of the meetings as possible to enable Reclamation to secure the needed services. If a request cannot be honored, the requestor will be notified. A telephone device for the hearing impaired (TDD) is available at 916-978-5608.

Written comments, including names and home addresses of respondents, will be made available for public review. Individual respondents may request that their home address be withheld from public disclosure, which will be honored to the extent allowable by law. There may be circumstances in which respondent's identity may also be withheld from public disclosure, as allowable by law. If you wish to have your name and/or address withheld, you must state this prominently at the beginning of your comment. All submissions from organizations or businesses, and from individuals identifying themselves as representatives or officials of organizations or businesses, will be made available for public disclosure in their entirety.

Dated: May 10, 2006.
Frank Michny,
Regional Environmental Officer, Mid-Pacific Region.

[FR Doc. 06-6161 Filed 7-11-06; 8:45am]

BILLING CODE 4310-MN-M